FEDERAL COMMUNICATIONS COMMISSION

47 CFR Part 15

[MB Docket No. 03-15; FCC 07-69]

Second Periodic Review of the Commission's Rules and Policies Affecting the Conversion to Digital Television

AGENCY: Federal Communications Commission.

ACTION: Final rule; announcement of effective date.

SUMMARY: The Federal Communications Commission has received Office of Management and Budget (OMB) approval for information collection requirements contained in 47 CFR 15.117(k). Therefore, the Commission announces that 47 CFR 15.117(k) is effective May 25, 2007.

DATES: The effective date for the rule published at 72 FR 26554 (May 10, 2007) amending 47 CFR 15.117 is May 25, 2007.

SUPPLEMENTARY INFORMATION: The Federal Communications Commission has received OMB approval for the Consumer Alert labeling rule published at 72 FR 26554 (May 10, 2007). Through this document, the Commission announces that it received this approval on May 16, 2007.

Pursuant to the Paperwork Reduction Act of 1995, Pub. L. 104-13, an agency may not conduct or sponsor a collection of information unless it displays a currently valid control number. Notwithstanding any other provisions of law, no person shall be subject to any penalty for failing to comply with a collection of information subject to the Paperwork Reduction Act (PRA) that does not display a valid control number. OMB assigned OMB Control Number 3060-1100 to the collection of information contained in 47 CFR 15.117(k). Questions concerning the OMB control number should be directed to Cathy Williams, Federal Communications Commission, (202) 418-2918 or via the Internet at Cathy.Williams@fcc.gov.

Federal Communications Commission.
Marlene H. Dortch,
Secretary.

[FR Doc. E7-10053 Filed 5-22-07; 8:45 am]

BILLING CODE 6712-01-P